SMALL BUSINESS ADMINISTRATION

2 CFR Part 2701

13 CFR Part 143

RIN 3245-AG62

Federal Awarding Agency Regulatory Implementation of Office of Management and Budget's Uniform Administrative Requirements, Cost Principles, and Audit Requirements for Federal Awards

AGENCY: U.S. Small Business Administration.

ACTION: Final rule.

SUMMARY: The U.S. Small Business Administration (SBA) publishes this rule to adopt as a final rule, with one change, a joint interim final rule published with the Office of Management and Budget (OMB) for all Federal award-making agencies that implemented guidance on Uniform Administrative Requirements, Cost Principles, and Audit Requirements for Federal Awards (Uniform Guidance). This rule is necessary to incorporate into regulation and thus bring into effect the Uniform Guidance as required by OMB for the SBA.

DATES: This rule is effective February 10, 2016.

FOR FURTHER INFORMATION CONTACT: William G. Bethel, Director, Office of Grants Management, Small Business Administration, 409 3rd Street SW., Washington, DC 20416 at (202) 205-7198 or William.Bethel@sba.gov.

SUPPLEMENTARY INFORMATION: On December 19, 2014, OMB and SBA issued an interim final rule that implemented for all Federal award-making agencies the final guidance on Uniform Administrative Requirements, Cost Principles, and Audit Requirements for Federal Awards (Uniform Guidance) (79 FR 75867, 76080-76081, December 19, 2014). In that interim final rule, Federal awarding agencies, including the SBA, joined together to implement the Uniform Guidance in their respective chapters of title 2 of the CFR, and, where approved by OMB, implemented any exceptions to the Uniform Guidance by including the relevant language in their regulations. Where applicable, agencies provided additional language beyond that included in 2 CFR part 200, consistent with their existing policy, to provide more detail with respect to how they intend to implement the policy, where appropriate.

In addition, the interim final rule made technical corrections to the Uniform Guidance, where needed, to ensure that particular language in the final guidance matched with the Council on Financial Assistance Reform's intent and to avoid any erroneous implementation of the guidance. The interim final rule went into effect on December 26, 2014. The public comment period for the interim final rule closed on February 17, 2015.

The SBA publishes this final rule to adopt the provisions of the interim final rule. The SBA adopted six exceptions to the Uniform Guidance and two implementing provisions, all of which were codified in 2 CFR part 2701. The SBA did not receive any public comments on its regulations. Accordingly, the SBA makes no substantive changes to the interim final rule. However, in order to reflect organizational changes that have occurred at SBA since the publication of the interim final rule and to provide for greater stability during periods of political transition, SBA is in this final rule reallocating responsibility for serving as the Agency's Single Audit Senior Accountable Official from the Chief Administrative Officer to the Deputy Chief Operating Officer.

Compliance With Executive Order 12866, the Paperwork Reduction Act (44 U.S.C. Ch. 35), and the Regulatory Flexibility Act (5 U.S.C. 601-612) Executive Order 12866

Pursuant to Executive Order 12866, OMB has determined this final rule to be not significant.

Paperwork Reduction Act

This rule contains no collections of information subject to the requirements of the Paperwork Reduction Act (44 U.S.C. Ch. 3506). Notwithstanding any other provision of law, no person is required to respond to, nor shall any person be subject to a penalty for failure to comply with a collection of information subject to the Paperwork Reduction Act unless that collection displays a currently valid OMB Control Number.

Regulatory Flexibility Act

Because notice and opportunity for comment are not required pursuant to 5 U.S.C. 553 or any other law, the analytical requirements of the Regulatory Flexibility Act (5 U.S.C. 601 et seq.) are inapplicable. Therefore, a regulatory flexibility analysis is not required and has not been prepared.

List of Subjects in 2 CFR Part 2701

Administrative practice and procedure, Grant administration, Grant programs.

Accordingly, the interim rule amending 2 CFR part 2701 and 13 CFR part 143, which was published at 79 FR 75867 on December 19, 2014, is adopted as a final rule with the following change:

PART 2701—UNIFORM ADMINISTRATIVE REQUIREMENTS, COST PRINCIPLES, AND AUDIT REQUIREMENTS FOR FEDERAL AWARDS

1. The authority citation for part 2701 continues to read as follows:

Authority: 15 U.S.C. 634(b)(6), 2 CFR part 200.

2. Revise § 2701.513 to read as follows:

§ 2701.513 Responsibilities.

For SBA, the Single Audit Senior Accountable Official is the Deputy Chief Operating Officer. The Single Audit Liaison is the Director, Office of Grants Management.

Maria Contreras-Sweet,
Administrator.

[FR Doc. 2015-33168 Filed 1-8-16; 8:45 am]

BILLING CODE 8025-01-P